DEPARTMENT OF AGRICULTURE

Agricultural Research Service

Government Owned Inventions Available for Licensing

AGENCY: Agricultural Research Service, USDA.

ACTION: Notice of Government Owned Inventions Available for Licensing.

SUMMARY: The inventions listed below are owned by the U.S. Government as represented by the Department of Agriculture, and are available for licensing in accordance with 35 U.S.C. 207 and 37 CFR part 404 to achieve expeditious commercialization of results of federally funded research and development.

FOR FURTHER INFORMATION CONTACT: Technical and licensing information on these inventions may be obtained by writing to: Janet I. Stockhausen of the USDA Forest Service, One Gifford Pinchot Drive, Madison, Wisconsin 53705-2398; telephone 608-231-9502; fax: 608-231-9508; or email at jistockh@facstaff.wisc.edu. Issued patents may be obtained from the Commissioner of Patents, U.S. Patent and Trademark Office, Washington, DC 20231.

SUPPLEMENTARY INFORMATION: The inventions available for licensing are:

09/540,841 “Fungal Degradation and Bioremediation System for CCA-Treated Wood”

09/541,893 “Fungal Degradation and Bioremediation System for Creosote-Treated Wood”

09/541,944 “Fungal Degradation and Bioremediation System for Pentachlorophenol-Treated Wood”

09/541,945 “Fungal Degradation and Bioremediation System for ACQ-Treated Wood”

June Blalock,
Technology Licensing Coordinator.

[FR Doc. 00-15625 Filed 6-20-00; 8:45 am]

BILLING CODE 3410-03-P